NATIONAL SCIENCE FOUNDATION (NSF)

Sunshine Act Meetings; National Science Board

The National Science Board (NSB), pursuant to NSF regulations (45 CFR part 614), the National Science Foundation Act, as amended, (42 U.S.C. 1862n-5), and the Government in the Sunshine Act (5 U.S.C. 552b), hereby gives an update to the scheduling of a previously noticed meeting for the transaction of NSB business as described below. The meeting was originally noticed in the Federal Register on November 18, 2019 at 84 FR 63680-81.

TIME AND DATE: The final session of the meeting on Wednesday, November 20, 2019 from 1:00 p.m. to 1:30 p.m. EST, a plenary open session, was to be held in the boardroom on the 2nd floor of the NSF headquarters, 2415 Eisenhower Avenue, Alexandria, VA 22314. However, a fire alarm required NSF and NSB staff to evacuate that floor just as the session was to begin. Because most NSB members had airplane flights leaving shortly after the meeting was to end, the NSB members and other staff gathered in the lobby of a nearby hotel and conducted the session. One of the items was time-sensitive and the vote could not practically be rescheduled in a timely way.

Plenary Board

Open Session: 1:00-1:30 p.m.

• NSB Chair's Opening Remarks

• Approval of Prior Minutes

• Open Committee Reports

• Vote on Merit Review Digest

• Votes on OIG Semiannual Report and NSF Management Response

• NSB Chair's Closing Remarks

The agenda items were covered as indicated. An audio recording of the session is available upon request.

CONTACT PERSONS FOR MORE INFORMATION: The contact for a copy of the audio file is NSB Counsel Ann Bushmiller, abushmil@nsf.gov, 703/292-7000. The NSB Office contact is Brad Gutierrez, bgutierr@nsf.gov, 703/292-7000.

Chris Blair,
Executive Assistant to the National Science Board Office.

[FR Doc. 2019-26129 Filed 11-27-19; 4:15 pm]

BILLING CODE 7555-01-P